DEPARTMENT OF ENERGY

Proposed Subsequent Arrangement

AGENCY: Office of Nonproliferation and International Security, Department of Energy.

ACTION: Proposed subsequent arrangement.

SUMMARY: This notice is being issued under the authority of section 131a. of the Atomic Energy Act of 1954, as amended. The Department is providing notice of a proposed subsequent arrangement under Article X paragraph 3 of the Agreement for Cooperation Between the Government of the United States of America and the Government of the Republic of Korea Concerning Civil Uses of Atomic Energy and the Agreement for Cooperation in the Peaceful Uses of Nuclear Energy Between the United States of America and the European Atomic Energy Community.

DATES: This subsequent arrangement will take effect no sooner than December 17, 2013.

FOR FURTHER INFORMATION CONTACT: Mr. Sean Oehlbert, Office of Nonproliferation and International Security, National Nuclear Security Administration, Department of Energy. Telephone: 202-586-3806 or email: Sean.Oehlbert@nnsa.doe.gov.

SUPPLEMENTARY INFORMATION: This subsequent arrangement concerns the retransfer of 1,860 g of U.S.-origin atomized low-enriched uranium-7wt. % molybdenum powder, containing 365.638 g in the isotope uranium-235, 19.658 percent enrichment, from the Korea Atomic Energy Research Institute (KAERI) in Daejeon, South Korea, to the Belgian Nuclear Research Centre (SCK•CEN) in Mol, Belgium. The material, which is located at and was prepared by KAERI, will be used for the irradiation test of full-size fuel plates in the BR-2 research reactor by SCK•CEN in cooperation with the Global Threat Reduction Initiative program. KAERI originally obtained the material from the U.S. Department of Energy/National Nuclear Security Administration Y-12 National Security Complex pursuant to export license XSNM3613.

In accordance with section 131a. of the Atomic Energy Act of 1954, as amended, it has been determined that this subsequent arrangement concerning the retransfer of nuclear material of United States origin will not be inimical to the common defense and security of the United States.

Dated: November 12, 2013.
For the Department of Energy.
Anne M. Harrington,
Deputy Administrator, Defense Nuclear Nonproliferation.

[FR Doc. 2013-28769 Filed 11-29-13; 8:45 am]

BILLING CODE 6450-01-P